DEPARTMENT OF EDUCATION

Office of Elementary and Secondary Education; Overview Information; Comprehensive School Reform Quality Initiatives Program; Notice Inviting Applications for New Awards

Catalog of Federal Domestic Assistance (CFDA) Number: 84.332B.

Note: This notice describes two separate competitions—one competition for Category 1 grant awards and one competition for Category 2 grant awards. Applicants must specify in their application whether they are applying for Category 1 or Category 2 grant awards.

DATES: Applications Available: February 4, 2005.

Notification of Intent To Apply: March 7, 2005.

Deadline for Transmittal of Applications: April 5, 2005.

Deadline for Intergovernmental Review: June 6, 2005.

Eligible Applicants: Public or private organizations that provide educational services to public elementary or secondary schools.

Estimated Available Funds: A total of approximately $12 million for the two categories of grants described in this notice. (Of this amount, approximately $5 million is from the fiscal year FY 2004 Comprehensive School Reform (CSR) Quality Initiatives appropriation and approximately $7 million is from the FY 2005 CSR Quality Initiatives appropriation.)

Contingent upon the availability of funds and the receipt of a sufficient number of high-quality applications, we may make additional awards in FY 2006 from the rank-ordered list of unfunded applications from this competition.

Estimated Range of Awards: Please see the chart (chart) elsewhere in this notice under section II, Award Information.

Estimated Average Size of Awards: See chart.

Estimated Number of Awards: At least one award in each of the two categories described in this notice. Any additional awards will be distributed between Category 1 and Category 2 grants based on the quality of the applications.

Note: The Department is not bound by any estimates in this notice.

Project Period: Up to 36 months.

Full Text of Announcement

I. Funding Opportunity Description

Purpose of Program: The purpose of the CSR Quality Initiatives program, authorized under section 1608 of the Elementary and Secondary Education Act of 1965, as amended (ESEA), is to provide discretionary grants to support activities that will enhance the State-administered CSR program and to enable schools that have been identified for improvement, corrective action, or restructuring under Part A of Title I of the ESEA to meet their State's definition of adequate yearly progress (AYP).

Under this program, the Secretary awards funds to support two specific categories of activities:

Category 1—The grantee provides technical assistance to States, school districts, and schools in making informed decisions regarding approving or selecting providers of comprehensive school reform, and

Category 2—The grantee supports capacity building for comprehensive school reform providers to expand their work in more schools, ensure quality, and promote financial stability.

The Category 1 and Category 2 competitions announced in this notice are independent competitions. The Department will evaluate and fund the Category 1 and Category 2 applications separately.

Priorities: These priorities are from the notice of final priorities for this program, published elsewhere in this issue of the Federal Register.

Absolute Priorities

(1) Absolute priority applicable to both Category 1 and Category 2 applicants.

For FY 2004 and FY 2005 and any subsequent year in which we make awards from the list of unfunded applicants from this competition, this priority is an absolute priority. Under 34 CFR 75.105(c)(3), we only consider Category 1 and Category 2 applicants that meet this priority. This priority is:

The grantee will assist local educational agencies (LEAs) in more than one State.

(2) Absolute priority applicable to Category 1 applicants only.

For FY 2004 and FY 2005 and any subsequent year in which we make awards from the list of unfunded applicants from this competition, this priority is an absolute priority. Under 34 CFR 75.105(c)(3), we only consider Category 1 applicants that meet this priority. This priority is:

The applicant must demonstrate, in its grant application, that its CSR Quality Initiatives award will be matched with funds from one or more private organizations. For each year that a grantee receives a CSR Quality Initiatives award, the match, including any in-kind contributions, must total at least 10 percent of the award.

Competitive Preference Priorities

(1) Competitive preference priority applicable to Category 1 applicants only.

For FY 2004 and FY 2005 and any subsequent year in which we make awards from the list of unfunded applicants from this competition, this priority is a competitive preference priority. Under 34 CFR 75.105(c)(2)(i), we award up to 10 additional points to a Category 1 applicant, depending on the extent to which the applicant meets this priority. This priority is:

The grantee will provide assistance to States, LEAs, and schools in approving or selecting a comprehensive school reform provider or in developing comprehensive school reforms, for schools that are identified as being in need of improvement, corrective action, or restructuring under section 1116 of the Elementary and Secondary Act of 1965, as amended. The applicant will provide a plan for providing States, LEAs and schools with information tools and technical assistance in such areas as using data to identify the instructional needs of students and to clarify the technical assistance and professional development needs of teachers and administrators.

(2) Competitive preference priority applicable to Category 2 applicants only.

For FY 2004 and FY 2005 and any subsequent year in which we make awards from the list of unfunded applicants from this competition, this priority is a competitive preference priority. Under 34 CFR 75.105(c)(2)(i), we award up to 10 additional points to a Category 2 applicant, depending on the extent to which the applicant meets this priority. This priority is:

The applicant will implement activities to develop and field-test specific strategies to: (1) Meet the needs of students who have been traditionally underserved by comprehensive school reform providers, such as students with disabilities and students with limited English proficiency and to integrate those strategies into scientifically research-based comprehensive school reforms, or (2) increase the capacity of comprehensive reform providers to serve students in rural areas. These strategies could be additions or enhancements to existing CSR models or services already being provided.

Applicable Regulations: (a) The Education Department General Administrative Regulations (EDGAR) in 34 CFR parts 74, 75, 77, 79, 80, 81, 82, 84, 85, 86, 97, 98, and 99; (b) the Notice of Final Priorities for the program published elsewhere in this issue of the Federal Register.

Program Authority: 20 U.S.C. 6518.

II. Award Information

Type of Award: Discretionary grant.

Estimated Available Funds: Approximately $12 million.

Contingent upon the availability of funds and the receipt of a sufficient number of high-quality applications, we may make additional awards in FY 2006 from the rank-ordered list of unfunded applications from this competition.

Estimated Range of Awards, Estimated Size of Awards, and Funding Cycle:

BILLING CODE 4001-01-P

BILLING CODE 4001-01-C

Estimated Number of Awards: At least one award under both Category 1 and Category 2. Additional funds will be distributed between Category 1 and Category 2 grants based on the quality of the applications.

Note: The Department is not bound by any estimates in this notice.

Project Period: Up to 36 months.

III. Eligibility Information

1. Eligible Applicants: Public or private organizations that provide educational services to public elementary or secondary schools.

2. Cost Sharing or Matching: The following matching requirement is for Category 1 (technical assistance in making informed decisions) applicants only. For each year that a Category 1 grantee receives a CSR Quality Initiatives award, the match, including any in-kind contributions, must total at least 10 percent of the award. Please refer to the Category 1 absolute priorities for more information.

There is no matching requirement for Category 2 (development and capacity building) applicants.

IV. Application and Submission Information

1. Address to Request Application Package: You may obtain an application package for this program via the Internet at the following address: http://www.ed.gov/programs/qualinits/applicant.html.

You also may request an application package by mail at: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.332B

Individuals with disabilities may obtain a copy of the application package in an alternative format (e.g., Braille, large print, audiotape, or computer diskette) by contacting the program contact person listed elsewhere in this notice under section VII. Agency Contact.

2. Content and Form of Application Submission: Requirements concerning the content of an application, together with the forms you must submit, are in the application package for this program. An applicant must indicate whether it is applying for funding from Category 1 or Category 2.

Notification of Intent to Apply: We will be able to develop a more efficient process for reviewing grant applications if we have a better understanding of the number of entities that intend to apply for funding.

Therefore, we strongly encourage each potential applicant to send a notification of its intent to apply for funding to the following address: compreform@ed.gov. Please indicate which category the potential applicant intends to apply under. The notification of intent to apply for funding is optional and should not include information regarding the proposed application.

Page Limit: Applicants are strongly encouraged to limit their application to 40 pages.

3. Submission Dates and Times:

Applications Available: February 4, 2005.

Notification of Intent to Apply: March 7, 2005.

Deadline for Transmittal of Applications: April 5, 2005.

Applications for grants under this program may be submitted electronically using the Electronic Grant Application System (e-Application) accessible through the Department's e-Grants system, or in paper format by mail or hand delivery. For information (including dates and times) about how to submit your application electronically, or by mail or hand delivery, please refer to section IV. 6.

Other Submission Requirements in this notice.

We do not consider an application that does not comply with the deadline requirements.

Deadline for Intergovernmental Review: June 6, 2005.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Applications for grants under this program may be submitted electronically or in paper format by mail or hand delivery.

a. Electronic Submission of Applications.

If you submit your application to us electronically, you must use e-Application available through the Department's e-Grants system, accessible through the e-Grants portal page at: http://e-grants.ed.gov.

While completing your electronic application, you will be entering data online that will be saved into a database. You may not e-mail an electronic copy of a grant application to us.

Please note the following:

• Your participation in e-Application is voluntary.

• You must complete the electronic submission of your grant application by 4:30 p.m., Washington, DC time, on the application deadline date. The e-Application system will not accept an application for this program after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you submit your application in paper format.

• You must submit all documents electronically, including the Application for Federal Education Assistance (ED 424), Budget Information—Non-Construction Programs (ED 524), and all necessary assurances and certifications.

• Any narrative sections of your application should be attached as files in a .DOC (document), .RTF (rich text), or .PDF (Portable Document) format.

• Prior to submitting your electronic application, you may wish to print a copy of it for your records.

• After you electronically submit your application, you will receive an automatic acknowledgement that will include a PR/Award number (an identifying number unique to your application).

• Within three working days after submitting your electronic application, fax a signed copy of the ED 424 to the Application Control Center after following these steps:

1. Print ED 424 from e-Application.

2. The applicant's Authorizing Representative must sign this form.

3. Place the PR/Award number in the upper right hand corner of the hard-copy signature page of the ED 424.

4. Fax the signed ED 424 to the Application Control Center at (202) 245-6272.

• We may request that you provide us original signatures on other forms at a later date.

Application Deadline Date Extension in Case of System Unavailability: If you are prevented from electronically submitting your application on the application deadline date because the e-Application system is unavailable, we will grant you an extension of one business day in order to transmit your application electronically, by mail, or by hand delivery. We will grant this extension if—

1. You are a registered user of e-Application and you have initiated an electronic application for this competition; and

2. (a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-Grants help desk at 1-888-336-8930. If the system is down and therefore the application deadline is extended, an e-mail will be sent to all registered users who have initiated an e-Application.

Extensions referred to in this section apply only to the unavailability of the Department's e-Application system. If the e-Application system is available, and, for any reason, you are unable to submit your application electronically or you do not receive an automatic acknowledgement of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the applicable following address:

By mail through the U.S. Postal Service:

U.S. Department of Education, Application Control Center, Attention: 84.332B, 400 Maryland Avenue, SW., Washington, DC 20202-4260; or

By mail through a commercial carrier:

U.S. Department of Education, Application Control Center—Stop 4260, Attention: 84.332B, 7100 Old Landover Road, Landover, MD 20785-1506.

You must show proof of mailing consisting of one of the following:

1. A legibly dated U.S. Postal Service postmark;

2. A legible mail receipt with the date of mailing stamped by the U.S. Postal Service;

3. A dated shipping label, invoice, or receipt from a commercial carrier; or

4. Any other proof of mailing acceptable to the Secretary of the U.S. Department of Education.

If you mail your application through the U.S. Postal Service, we do not accept either of the following as proof of mailing:

1. A private metered postmark, or

2. A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: 84.332B, 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

1. You must indicate on the envelope and—if not provided by the Department—in Item 4 of the ED 424 the CFDA number—and suffix letter, if any—of the competition under which you are submitting your application.

2. The Application Control Center will mail a grant application receipt acknowledgment to you. If you do not receive the grant application receipt acknowledgement within 15 business days from the application deadline date, you should call the U.S. Department of Education Application Control Center at (202) 245-6288.

V. Application Review Information

Selection Criteria: We will use different selection criteria for the Category 1 and Category 2 applications. These criteria are from the regulations at 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the program objective for the Comprehensive School Reform program is to increase the number of CSR program schools that will be removed from school improvement status under Title I of the ESEA. Specifically for the CSR Quality Initiatives program, one performance indicator and related measure for each category have been developed for evaluating the overall effectiveness of the CSR Quality Initiatives program.

For Category 1 (technical assistance in making informed decisions) projects, the performance indicator is “the usefulness of products and services developed through technical assistance addressed through a survey of target audience members.” With respect to this indicator, the measure that the Department will specifically look at is “the percentage of all products and services that receive target audience ratings for usefulness of high and above.”

For Category 2 (model development and capacity building) projects, the indicator is “the relevance of the projects funded by this program.” With respect to this indicator, the performance measure is the “percentage of new research projects funded by the CSR Quality Initiatives program that are deemed to be of high relevance to education practice.”

All Category 1 and Category 2 grantees will be expected to submit an annual performance report addressing these performance measures. Data from the performance measures are included in the yearly report to Congress, key stakeholders, and the public.

VII. Agency Contact

FOR FURTHER INFORMATION CONTACT: Sheila Sjolseth, U.S. Department of Education, OESE/AITQ, 400 Maryland Ave, SW., FB-6, Room 3W237, Washington, DC 20202-6200. Telephone (202) 260-5619 or by email compreform@ed.gov or by Internet at the following Web site: http://www.ed.gov/programs/qualinits/index.html.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http:// www.gpoaccess.gov/nara/index.html.

Dated: February 1, 2005.
Raymond Simon,
Assistant Secretary for Elementary and Secondary, Education.

[FR Doc. 05-2225 Filed 2-3-05; 8:45 am]

BILLING CODE 4000-01-C